OFFICE OF THE UNITED STATES TRADE REPRESENTATIVE

Notice of Meeting of the Industry Sector Advisory Committee on Services (ISAC-13)

AGENCY: Office of the United States Trade Representative.

ACTION: Notice of meeting.

SUMMARY: The Industry Sector Advisory Committee on Services (ISAC-13) will hold a meeting on June 28, 2001, from 9 a.m. to 12 noon. The meeting will be open to the public from 9 a.m. to 9:45 a.m. and closed to the public from 9:45 a.m. to 12 noon.

DATES: The meeting is scheduled for June 28, 2001, unless otherwise notified.

ADDRESSES: The meeting will be held in Conference Room 6057, of the Department of Commerce, located at 14th Street between Pennsylvania and Constitution Avenues, NW., Washington, DC.

FOR FURTHER INFORMATION CONTACT: Ingrid Mitchem, Acting Designated Officer for ISAC-13, (202) 482-3268, Department of Commerce, 14th Street and Constitution Avenue, NW, Washington, DC 20230 (principal contacts), or myself on (202) 395-6120.

SUPPLEMENTARY INFORMATION: During the meeting the following topics will be addressed:

• Trade Promotion Authority; and

• International Trade Agreements

Heather K. Wingate,
Assistant United States Trade Representative for Intergovernmental Affairs and Public Liaison.

[FR Doc. 01-15772 Filed 6-21-01; 8:45 am]

BILLING CODE 3190-01-M